FEDERAL EMERGENCY MANAGEMENT AGENCY

44 CFR Part 67

[Docket No. FEMA-D-7532]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground *Elevation in feet (NGVD) *Elevation in feet (NAVD): Existing | #Depth in feet above ground *Elevation in feet (NGVD) *Elevation in feet (NAVD): Modified
Florida | St. Johns County (Unincorporated Areas) | Flora Branch | At the upstream side of Race Track Road Approximately 3,160 feet upstream of Flora Branch Boulevard | *9 None | *6 *17
|  | Kendall Creek | Approximately 4,700 feet upstream of confluence with St. Johns River | *11 | *10
|  |  | Approximately 1,000 feet upstream of Roberts Road | *24 | *25
|  | Cunningham Creek | Approximately 4,500 feet upstream of confluence with St. Johns River | *6 | *7
|  |  | Approximately 2 miles upstream of Flora Branch Boulevard | *22 | *21
|  | Kentucky Branch | Approximately 1,000 feet upstream of State Road 13 | *7 | *6
|  |  | Approximately 4,400 feet upstream of confluence with Kentucky Branch Tributary | *23 | *24
|  | Kentucky Branch | At confluence with Kentucky Branch | *8 | *7
|  | Tributary | At upstream side of Greenbriar Road | *19 | *18
|  | Moultrie Creek | At the upstream side of U.S. Route 1 | *9 | *8
|  |  | At downstream side of Route 214 | *33 | *31
|  | Moultrie Creek | Approximately 1,200 feet upstream of confluence with Moultrie Creek | *9 | *8
|  | Tributary No. 1 | Approximately 80 feet upstream of Lewis Point Road | *25 | *26
|  | Moultrie Creek | At confluence with Moultrie Creek | *9 | *8
|  | Tributary No. 3 | Approximately 200 feet upstream of Willow Walk Place | *21 | *22
|  | Moultrie Creek | At confluence with Moultrie Creek | *9 | *8
|  | Tributary No. 4 | Approximately 80 feet upstream of State Route 207 | *36 | *37
|  | Orange Grove | Approximately 600 feet upstream of State Road 13N | *15 | *14
|  | Branch | Approximately 1.8 miles upstream of State Road 13N | *27 | *25
|  | Petty Branch | Approximately 200 feet upstream of State Road 13 | *7 | *6
|  |  | Approximately 1.9 miles downstream of State Road 13 | None | *27
|  | St. Johns River | Approximately 200 feet downstream of State Road 13N | *7 | *6
|  | Tributary No. 2 | At downstream side of Remington Forest Drive | *10 | *9
|  | St. Johns River | Approximately 500 feet downstream of Grove Bluff Road | *6 | *7
|  | Tributary No. 1 | Approximately 125 feet upstream of State Road 13N | None | *16
|  | St. Johns River | Approximately 2,350 feet upstream of confluence with St. Johns River | *7 | *6
|  | Tributary No. 5 | Approximately 0.7 mile upstream of State Road 13 | None | *17
|  | St. Johns River | Approximately 575 feet downstream of State Road 13 | *7 | *6
|  | Tributary No. 3 | Approximately 800 feet upstream of unnamed road | *22 | *21
|  | St. Johns River | Approximately 75 feet upstream of confluence with St. Johns River Tributary No. 3, Branch No. 1 | *13 | *14
|  | Tributary No. 3, Branch No. 2 | Approximately 1,825 feet upstream of confluence with St. Johns River Tributary No. 3, Branch No. 1 | *24 | *23
|  | St. Johns River | Approximately 1,950 feet upstream of confluence with St. Johns River | *7 | *6
|  | Tributary No. 4 | Approximately 0.6 mile upstream of State Road 13 | None | *24
|  | Sixmile Creek | Approximately 3.5 miles upstream with St. Johns River | *6 | *7
|  |  | At confluence with Turnbull Creek | None | *15
|  | Turnbull Creek | At confluence with Sixmile Creek | None | *15
|  |  | At upstream side of Interstate 95 | None | *30
|  | Durbin Creek | At upstream side of Race Track Road | None | *12
|  |  | Approximately 280 feet upstream of U.S. Highway 1 | None | *15
|  | Mill Creek #2 | Approximately 1,600 feet upstream of confluence with Sixmile Creek | None | *6
|  |  | Approximately 0.8 mile upstream of State Road 16 | None | *26
|  | Red House Branch | At confluence with San Sebastian River | None | *10
|  |  | Approximately 100 feet upstream of Chicken Farm Road | *28 | *27
|  | Atlantic Ocean | Approximately 800 feet east of intersection of Hildago Road and Costanero Road | None | *13
|  |  | Approximately 500 feet east of intersection of Country Route 210 and Ponte Vedra Boulevard | *14 | *17
Maps available for inspection at the St. Johns County Administration Building, Building Department, 4020 Lewis Speedway, St. Augustine, Florida.
Send comments to Mr. Ben Adams, Jr., St. Johns County Administrator, 4020 Lewis Speedway, P.O. Drawer 349, St. Augustine, Florida 32085-0349.
Florida | St. Augustine Beach (City), St. Johns County | Atlantic Ocean | Approximately 600 feet east of 16th Street and A1A Beach Boulevard | *14 | *17
|  |  | Approximately 600 feet southeast of A1A and Pope Road | *9 | *13
|  |  | Approximately 600 feet northeast of 16th Street and A1A Beach Boulevard | None | *1
Maps available for inspection at the St. Augustine City Hall, 2200 A1A South, St. Augustine Beach, Florida.
Send comments to Mr. Max Royle, City of St. Augustine Beach Manager, 2200 A1A South, St. Augustine Beach, Florida 32080.
New Jersey | Bernardsville (Borough), Somerset County | Indian Grave Brook | At confluence with Passaic River | *298 | *303
|  |  | Approximately 475 feet upstream Washington Corner Road | *596 | *597
|  | Tributary K | At confluence with Indian Grave Brook | *450 | *456
|  |  | Approximately 1,672 feet upstream of Washington Corner Road | *562 | *565
|  | Passaic River | At downstream corporate limit | *298 | *303
|  |  | Approximately 4,940 feet above downstream corporate limits | *374 | *375
|  | Mine Brook | Approximately 0.05 mile upstream Mill Street | *396 | *397
|  |  | At dam | *435 | *436
|  | Tributary MB | Approximately 0.06 mile upstream of confluence with Mine Brook | *415 | *416
|  |  | Approximately 0.02 mile downstream Thompson Road bridge | *434 | *435
Maps available for inspection at the Bernardsville Borough Hall, Office of the Borough Clerk, 166 Mine Brook Road, Bernardsville, New Jersey.
Send comments to The Honorable Jay Parsons, Mayor of the Borough of Bernardsville, Municipal Building, Bernardsville, New Jersey 07924.
Pennsylvania | Tinicum (Township), Bucks County | Delaware River | Approximately 0.25 mile upstream of Uhlerstown Hill Road | *126 | *127
|  |  | Approximately 1.17 miles downstream of Upper Black Eddy Bridge | *135 | *134
|  | Delaware River | At confluence with the Delaware River | *127 | *128
|  | Overland Flow | At divergence from the Delaware River | *135 | *133
Maps available for inspection at the Tinicum Municipal Building, 163 Municipal Road, Pipersville, Pennsylvania.
Send comments to Mr. Gary Pearson, Chairperson of the Township of Tinicum Board of Supervisors, 163 Municipal Road, Pipersville, Pennsylvania 18947.

(Catalog of Federal Domestic Assistance No. 83.100, “Flood Insurance”)

Dated: July 2, 2002.
Robert F. Shea,
Acting Administrator, Federal Insurance and Mitigation Administration.

[FR Doc. 02-17276 Filed 7-9-02; 8:45 am]

BILLING CODE 6718-04-P